DEPARTMENT OF AGRICULTURE

Cooperative State Research, Education, and Extension Service

7 CFR Part 3430

RIN 0524-AA59

Competitive and Noncompetitive Non-Formula Federal Assistance Programs—Specific Administrative Provisions for the Beginning Farmer and Rancher Development Program

AGENCY: Cooperative State Research, Education, and Extension Service, USDA.

ACTION: Interim rule and request for comments.

SUMMARY: The Cooperative State Research, Education, and Extension Service (CSREES) is publishing a set of specific administrative requirements for the Beginning Farmer and Rancher Development Program (BFRDP) to supplement the Competitive and Noncompetitive Non-Formula Federal Assistance Programs—General Award Administrative Provisions for this program. The BFRDP is authorized undersection 7405 of the Farm Security and Rural Investment Act of 2002, as amended by section 7410 of the Food, Conservation, and Energy Act of 2008.

DATES: This interim rule is effective on September 4, 2009. The Agency must receive comments on or before November 3, 2009.

ADDRESSES: You may submit comments, identified by RIN 0524-AA59, by any of the following methods:

Federal eRulemaking Portal: http://www.regulations.gov. Follow the instructions for submitting comments.

E-mail: RFP-OEP@csrees.usda.gov. Include Regulatory Information Number (RIN) 0524-AA59 in the subject line of the message.

Fax: 202-401-7752.

Mail: Paper, disk or CD-ROM submissions should be submitted to Cooperative State Research, Education, and Extension Service; U.S. Department of Agriculture; STOP 2299; 1400 Independence Avenue, SW.; Washington, DC 20250-2299.

Hand Delivery/Courier: Cooperative State Research, Education, and Extension Service; U.S. Department of Agriculture; Room 2258, Waterfront Centre; 800 9th Street, SW.; Washington, DC 20024.

Instructions: All submissions received must include the agency name and the RIN for this rulemaking. All comments received will be posted without change to http://www.regulations.gov, including any personal information provided.

FOR FURTHER INFORMATION CONTACT: Dr. Siva Sureshwaran, National Program Leader, Competitive Programs Unit; Cooperative State Research, Education, and Extension Service, U.S. Department of Agriculture, STOP 2240, 1400 Independence Avenue, SW., Washington, DC 20250-2240; Voice: 202-2720-7536; Fax: 202-401-6070; E-mail: ssureshwaran@csrees.usda.gov.

SUPPLEMENTARY INFORMATION:

I. Background and Summary

Authority

Section 7405 of the Farm Security and Rural Investment Act of 2002 (FSRIA), Public Law 107-171 (7 U.S.C. 3319f), as amended by section 7410 of the Food, Conservation, and Energy Act of 2008 (FCEA), Public Law 110-246, provided the authority to the Secretary of Agriculture (Secretary) to provide training, education, outreach, and technical assistance to beginning farmers or ranchers. The authority to carry out this program has been delegated to CSREES through the Under Secretary for Research, Education, and Economics.

In carrying out the program, the Secretary is authorized to make competitive grants under section 7405(c) of FSRIA to support new and established local and regional training, education, outreach, and technical assistance initiatives that address the needs of beginning farmers and ranchers. The Secretary may award a BFRDP grant to a collaborative State, tribal, local, or regionally-based network or partnership of public or private entities, which may include: A State cooperative extension service; a Federal, State, or tribal agency; a community-based and nongovernmental organization; a college or university (including an institution awarding an associate's degree) or foundation maintained by a college or university; or any other appropriate partner, as determined by the Secretary. BFRDP grants shall be awarded to address needs of beginning farmers and ranchers in the following areas: Mentoring, apprenticeships, and internships; resources and referrals; assisting beginning farmers or ranchers in acquiring land from retiring farmers and ranchers; innovative farm and ranch transfer strategies; entrepreneurship and business training; model land leasing contracts; financial management training; whole farm planning; conservation assistance; risk management education; diversification and marketing strategies; curriculum development; understanding the impact of concentration and globalization; basic livestock and crop farming practices; the acquisition and management of agricultural credit; environmental compliance; information processing; and other similar subject areas of use to beginning farmers or ranchers. Pursuant to FSRIA section 7405(c)(3), these grants shall not have a term of more than 3 years and shall not be in an amount greater than $250,000 per year; however, eligible recipients may receive consecutive grants. These awards also are prohibited by statute from supporting planning, repair, rehabilitation, acquisition, or construction of a building or facility. In addition, not less than 25 percent of these BFRDP grant funds for a fiscal year must be used to support programs and services that address the needs of limited resource beginning farmers or ranchers; socially disadvantaged beginning farmers or ranchers; and farmworkers desiring to become farmers or ranchers. All BFRDP grant applicants are required to provide funds or in-kind support in an amount that is at least equal to 25 percent of the Federal funds requested. In making BFRDP grants, priority will be given to partnerships and collaborations that are led by or include nongovernmental and community-based organizations with expertise in new agricultural producer training and outreach. Geographical diversity will be ensured to the maximum extent practicable.

FSRIA section 7405(d) also requires the Secretary to establish beginning farmer and rancher education teams to develop curricula and conduct educational programs and workshops for beginning farmers or ranchers in diverse geographical areas of the United States. The Secretary is required, in promoting the development of curricula and to the maximum extent practicable, to include modules tailored to specific audiences of beginning farmers or ranchers, based on crop or regional diversity. The Secretary is required to cooperate, to the maximum extent practicable, with (1) State cooperative extension services; (2) Federal and State agencies; (3) community-based and nongovernmental organizations; (4) colleges and universities (including an institution awarding an associate's degree) or foundations maintained by a college or university; and other appropriate partners, as determined by the Secretary.

FSRIA section 7405(e) requires the Secretary to establish an online clearinghouse that makes available to beginning farmers or ranchers education curricula and training materials and programs, which may include online courses for direct use by beginning farmers or ranchers.

For fiscal year (FY) 2009, $18 million has been made available for the BFRDP, including administrative costs.

Organization of 7 CFR Part 3430

A primary function of CSREES is the fair, effective, and efficient administration of Federal assistance programs implementing agricultural research, education, and extension programs. As noted above, CSREES has been delegated the authority to administer this program and will be issuing Federal assistance awards for funding made available for this program; and thus, awards made under this authority will be subject to the Agency's assistance regulations at 7 CFR part 3430, Competitive and Noncompetitive Non-formula Federal Assistance Programs—General Award Administrative Provisions. The Agency's development and publication of these regulations for its non-formula Federal assistance programs serve to enhance its accountability and to standardize procedures across the Federal assistance programs it administers while providing transparency to the public. CSREES published 7 CFR part 3430 with subparts A through F as an interim rule on August 1, 2008 [73 FR 44897-44909], and as a final rule September 4, 2009. These regulations apply to all Federal assistance programs administered by CSREES except for the formula grant programs identified in 7 CFR 3430.1(f), the Small Business Innovation Research programs with implementing regulations at 7 CFR part 3403 and the Veterinary Medicine Loan Repayment Program (VMLRP) authorized under section 1415A of the National Agricultural Research, Extension, and Teaching Policy Act of 1977 (NARETPA).

CSREES organized the regulation as follows: Subparts A through E provide administrative provisions for all competitive and noncompetitive non-formula Federal assistance awards. Subparts F and thereafter apply to specific CSREES programs.

CSREES is, to the extent practical, using the following subpart template for each program authority: (1) Applicability of regulations, (2) purpose, (3) definitions (those in addition to or different from § 3430.2), (4) eligibility, (5) project types and priorities, (6) funding restrictions, and (7) matching requirements. Subparts F and thereafter contain the above seven components in this order. Additional sections may be added for a specific program if there are additional requirements or a need for additional rules for the program (e.g., additional reporting requirements). Through this rulemaking, CSREES is adding subpart J for the administrative provisions that are specific to the BFRDP.

Solicitation of Stakeholder Input and Development of Subpart J

CSREES published a Federal Register Notice on September 24, 2008 [73 FR 54987-54988], soliciting written stakeholder input comments through November 14, 2008, on the implementation of the BFRDP, and announcing a public meeting to solicit additional input. This public meeting was held on October 27, 2008, at the Waterfront Centre in Washington, DC. In addition, CSREES conducted listening sessions in Cherry Hill, New Jersey, on October 6, 2008; Houston, Texas, on October 6, 2008; and Little Rock, Arkansas, on October 22, 2008; and Webinars on October 28, 2008, and October 30, 2008. Information on the solicitation of stakeholder input is available at http://www.csrees.usda.gov/nea/ag_systems/in_focus/smallfarm_if_bfrdp.html. All stakeholder input received has been made available at http://www.regulations.gov under CSREES_FRDOC_0001.

Approximately 50 people attended the public meeting on October 27, 2008, from several community-based and nongovernmental organizations (e.g., Land Stewardship Project, Sustainable Agriculture Coalition, California Farm Link, New American Sustainable Agriculture Project, Rural Coalition, American Farm Bureau, and Center for Rural Affairs); professional organizations (e.g., Future Farmers of America (FFA), National Association of State Universities and Land-Grant Colleges (NASULGC), and American Forest Foundation), colleges and universities (e.g., Iowa State University), State and Federal Agencies (USDA Office of Small Farm Coordination and Pennsylvania Department of Agriculture), farms and small businesses (e.g., Simple Gifts Farm and Custom Ag Solutions), and others.

To provide more opportunities for interested stakeholders to participate, internet based Webinars were held on October 28, 2008, and October 30, 2008. CSREES also received several stakeholder comments through the advertised call-in number, fax, and e-mail. CSREES considered all the stakeholder input received from the public meeting, Webinars, as well as other written comments in developing the RFA for this program.

Based on stakeholder input, farm safety, forestry and range management, and organic and peri-urban farming are added to the list of priorities in FY 2009. As recommended by stakeholders, evaluation criteria include emphasis on past experience in providing education, training, and mentoring to beginning farmers and ranchers; direct interaction with farmers; and definition of target audience. As requested by the stakeholders, interaction with FFA and other young farmer groups and the Secretary's Advisory Group on Beginning Farmers and Ranchers is encouraged. Following the legislation and stakeholder recommendations, priority will be given to projects that are led by or include community-based organizations and/or nongovernmental organizations. In addition, there will be an ongoing process in evaluating and implementing suggestions made by stakeholders into the BFRDP program and ongoing stakeholder input will be encouraged and opportunities provided as the program moves forward.

In subpart J of 7 CFR part 3430, CSREES is adding sections on applicability of the regulations, purpose, definitions, eligibility, project types and priorities, funding restrictions, matching requirements, stakeholder input, review criteria, and other considerations. Under § 3430.602, CSREES is adding the definitions of “beginning farmer or rancher,” “clearinghouse,” and “limited resource beginning farmers or ranchers.” Under § 3430.604, CSREES clarifies the type of projects that may be funded under this authority: standard BFRDP projects and other BFRDP projects. The legislative requirements of standard BFRDP projects are found under FSRIA section 7405(c), and the legislative requirements for other BFRDP projects are found under sections 7405(d) and (e). Standard BFRDP projects are limited to 3 years and may not exceed $250,000 per year; whereas, other BFRDP projects are limited to 5 years pursuant to section 1472 of NARETPA (7 U.S.C. 3318). Also, other BFRDP projects are not subject to the $250,000 per year limitation. Section 3430.605 on funding restrictions clarifies that indirect cost costs are allowed, subject to § 3430.54. Section 3430.606 on matching requirements states that the matching requirements apply to both standard BFRDP projects and other BFRDP projects authorized in subsections (c), (d), and (e) of FSRIA section 7405, and that the matching requirements cannot be waived. Section 3430.606 also provides that the use of indirect costs as in-kind matching contributions is subject to § 3430.52.

Timeline for Implementing Regulations

CSREES is publishing this rule as interim with a 60-day comment period and anticipates a final rule by December 31, 2009. However, in the interim, these regulations apply to the BFRDP.

II. Administrative Requirements for the Proposed Rulemaking

Executive Order 12866

This action has been determined to be not significant for purposes of Executive Order 12866, and therefore, has not been formally reviewed by the Office of Management and Budget. This interim rule will not create a serious inconsistency or otherwise interfere with an action taken or planned by another agency; nor will it materially alter the budgetary impact of entitlements, grants, user fees, or loan programs; nor will it have an annual effect on the economy of $100 million or more; nor will it adversely affect the economy, a sector of the economy, productivity, competition, jobs, the environment, public health or safety, or State, local or tribal governments or communities in a material way. Furthermore, it does not raise a novel legal or policy issue arising out of legal mandates, the President's priorities or principles set forth in the Executive Order.

Regulatory Flexibility Act of 1980

This interim rule has been reviewed in accordance with The Regulatory Flexibility Act of 1980, as amended by the Small Business Regulatory Enforcement Fairness Act of 1996, 5 U.S.C. 601-612. The Department concluded that the rule will not have a significant economic impact on a substantial number of small entities. The rule does not involve regulatory and informational requirements regarding businesses, organizations, and governmental jurisdictions subject to regulation.

Paperwork Reduction Act (PRA)

The Department certifies that this interim rule has been assessed in accordance with the requirements of the Paperwork Reduction Act, 44 U.S.C. 3501 et seq. (PRA). The Department concludes that this interim rule does not impose any new information requirements; however, the burden estimates will increase for existing approved information collections associated with this rule due to additional applicants. These estimates will be provided to OMB. In addition to the SF-424 form families (i.e., Research and Related and Mandatory), SF-272, Federal Cash Transactions Report, SF-269, Financial Status Reports, and SF-425, Federal Financial Reports; CSREES has three currently approved OMB information collections associated with this rulemaking: OMB Information Collection No. 0524-0042, CSREES Current Research Information System (CRIS); No. 0524-0041, CSREES Application Review Process; and No. 0524-0026, Assurance of Compliance with the Department of Agriculture Regulations Assuring Civil Rights Compliance and Organizational Information.

Catalog of Federal Domestic Assistance

This interim regulation applies to the Federal assistance program administered by CSREES under the Catalog for Federal Domestic Assistance (CFDA) No. 10.311, Beginning Farmer and Rancher Development Program.

Unfunded Mandates Reform Act of 1995 and Executive Order 13132

The Department has reviewed this interim rule in accordance with the requirements of Executive Order No. 13132 and the Unfunded Mandates Reform Act of 1995, 2 U.S.C. 1501 et seq., and has found no potential or substantial direct effects on the States, on the relationship between the national government and the States, or on the distribution of power and responsibilities among the various levels of government. As there is no Federal mandate contained herein that could result in increased expenditures by State, local, or tribal governments, or by the private sector, the Department has not prepared a budgetary impact statement.

Executive Order 13175: Consultation and Coordination With Indian Tribal Governments

The Department has reviewed this interim rule in accordance with Executive Order 13175, and has determined that it does not have “tribal implications.” The interim rule does not “have substantial direct effects on one or more Indian tribes, on the relationship between the Federal Government and Indian tribes, or on the distribution of power and responsibilities between the Federal Government and Indian tribes.”

Clarity of This Regulation

Executive Order 12866 and the President's Memorandum of June 1, 1998, require each agency to write all rules in plain language. The Department invites comments on how to make this interim rule easier to understand.

List of Subjects in 7 CFR Part 3430

Administrative practice and procedure, Agricultural research, Education, Extension, Federal assistance.

Accordingly, Title 7 of the Code of Federal Regulations is amended as set forth below:

PART 3430—COMPETITIVE AND NONCOMPETITIVE NON-FORMULA FEDERAL ASSISTANCE PROGRAMS—GENERAL AWARD ADMINISTRATIVE PROVSIONS

1. The authority for part 3430 continues to read as follows:

Authority: 7 U.S.C. 3316; Pub. L. 106-107 (31 U.S.C. 6101 note).

2. Add a new subpart J, to read as follows:

Subpart J—Beginning Farmer and Rancher Development Program
Sec.
3430.600 Applicability of regulations.
3430.601 Purpose.
3430.602 Definitions.
3430.603 Eligibility.
3430.604 Project types and priorities.
3430.605 Funding restrictions.
3430.606 Matching requirements.
3430.607 Stakeholder input.
3430.608 Review criteria.
3430.609 Other considerations.

Subpart J—Beginning Farmer and Rancher Development Program

§ 3430.600 Applicability of regulations.

The regulations in this subpart apply to the program authorized under section 7405 of the Farm Security and Rural Investment Act of 2002 (7 U.S.C. 3319f).

§ 3430.601 Purpose.

The purpose of the Beginning Farmer and Rancher Development Program (BFRDP) is to establish a beginning farmer and rancher development program that provides local and regional training, education, outreach, and technical assistance initiatives for beginning farmers and ranchers.

§ 3430.602 Definitions.

The definitions applicable to the program under this subpart include:

Beginning farmer or rancher means a person that has not operated a farm or ranch or has operated a farm or ranch for not more than 10 years, and meets such other criteria as the Secretary may establish.

Clearinghouse means an online repository that will make available to beginning farmers or ranchers education curricula and training materials and programs, and which may include online courses for direct use by beginning farmers or ranchers.

Limited resource beginning farmers or ranchers means beginning farmers or ranchers who have: (1) direct or indirect gross farm sales not more than the sales amount established by the USDA Natural Resources Conservation Service (NRCS) in each of the previous two years (in current dollars, adjusted for inflation each year, based on the October 2002 Prices Paid by Farmer Index compiled and updated annually by the USDA National Agricultural Statistics Service (NASS), and (2) a total household income at or below the National Poverty Level for a family of four or less than 50 percent of county median household income in each of the previous 2 years as determined by the U.S. Department of Health and Human Services (DHHS), using the Census Poverty Data.

§ 3430.603 Eligibility.

To be eligible to receive an award under this subpart, the recipient shall be a collaborative State, tribal, local, or regionally-based network or partnership of public or private entities, including:

(a) A State cooperative extension service;

(b) A Federal, State, or tribal agency;

(c) A community-based and nongovernmental organization;

(d) A college or university (including a junior college offering an associate's degree) or foundation maintained by a college or university;

(e) A private for-profit organization; or

(f) Any other appropriate partner, as determined by the Secretary.

§ 3430.604 Project types and priorities.

(a) Standard BFRDP projects. For standard BFRDP projects, competitive grants will be awarded to support programs and services, as appropriate, relating to the following focus areas and activities:

(1) Mentoring, apprenticeships, and internships.

(2) Resources and referral.

(3) Assisting beginning farmers or ranchers in acquiring land from retiring farmers and ranchers.

(4) Innovative farm and ranch transfer strategies.

(5) Entrepreneurship and business training.

(6) Model land leasing contracts.

(7) Financial management training.

(8) Whole farm planning.

(9) New and emerging issues, facing farmers and ranchers, including climate change and changing world markets.

(10) Conservation assistance.

(11) Risk management education.

(12) Diversification and marketing strategies.

(l3) Curriculum development.

(14) Understanding the impact of concentration and globalization.

(15) Basic livestock and crop farming practices, forestry and range management.

(16) Acquisition and management of agricultural credit.

(17) Environmental compliance.

(18) Information processing.

(19) Other similar subject areas of use to beginning farmers or ranchers.

CSREES may include additional activities or focus areas that further address the critical needs of beginning farmers and ranchers as defined in this subpart. Some of these activities or focus areas may be identified by stakeholder groups or by CSREES in response to emerging critical needs of the Nation's farmers and ranchers.

(b) Other BFRDP Projects. In addition to the competitive grants made under paragraph (a) of this section, competitive awards (grants or cooperative agreements) will be made:

(1) to establish beginner farmer and rancher educational enhancement projects that develop curricula and conduct educational programs and workshops for beginning farmers or ranchers in diverse geographical areas of the Unites States; and

(2) to establish and maintain an online clearinghouse.

§ 3430.605 Funding restrictions.

(a) Facility costs. Funds made available under this subpart shall not be used for the planning, repair, rehabilitation, acquisition, or construction of a building or facility.

(b) Indirect costs. Subject to § 3430.5460, indirect costs are allowable.

(c) Participation by other farmers and ranchers. Projects may allow farmers and ranchers who are not beginning farmers and ranchers to participate in the programs funded under this subpart if their participation is appropriate and will not detract from the primary purpose of educating beginning farmers and ranchers as defined under this subpart.

§ 3430.606 Matching requirements.

(a) Requirement. Awardees are required to provide a match in the form of cash or in-kind contributions in an amount at least equal to 25 percent of the Federal funds provided by the award. The matching funds must be from non-Federal sources except when authorized by statute. The matching requirements under this subpart cannot be waived.

(b) Indirect costs. Use of indirect costs as in-kind matching contributions is subject to § 3430.52.

§ 3430.607 Stakeholder input.

CSREES shall seek and obtain stakeholder input through a variety of forums (e.g., public meetings, request for input and/or via Web site), as well as through a notice in the Federal Register, from the following entities:

(a) Beginning farmers and ranchers.

(b) National, State, tribal, and local organizations, community-based organizations, and other persons with expertise in operating beginning farmer and rancher programs.

(c) The Advisory Committee on Beginning Farmers and Ranchers established under section 5 of the Agricultural Credit Improvement Act of 1992 (7 U.S.C. 1929 note; Pub. L. 102-554).

§ 3430.608 Review criteria.

(a) Evaluation criteria. CSREES shall evaluate project proposals according to the following factors:

(1) Relevancy.

(2) Technical merit.

(3) Achievability.

(4) The expertise and track record of one or more applicants.

(5) The adequacy of plans for the participatory evaluation process, outcome-based reporting, and the communication of findings and results beyond the immediate target audience.

(6) Other appropriate factors, as determined by the Secretary.

(b) Partnership and collaboration. In making awards under this subpart, CSREES shall give priority to partnerships and collaborations that are led by or include nongovernmental and community-based organizations with expertise in new agricultural producer training and outreach.

(c) Regional balance. In making awards under this subpart, CSREES shall, to the maximum extent practicable, ensure geographical diversity.

§ 3430.609 Other considerations.

(a) Set aside. Each fiscal year, CSREES shall set aside at least 25 percent of the funds used to support the standard BFRDP projects under this subpart to support programs and services that address the needs of the following groups:

(1) Limited resource beginning farmers or ranchers (as defined in § 3430.602).

(2) Socially disadvantaged beginning farmers or ranchers (as defined in section 355(e) of the Consolidated Farm and Rural Development Act (7 U.S.C. 2003(e)).

(3) Farmworkers desiring to become farmers or ranchers.

(b) Consecutive awards. An eligible recipient may receive a consecutive grant for a standard BFRDP project under this subpart.

(c) Duration of awards. The term of a grant for a standard BFRDP project under this subpart shall not exceed 3 years. Awards for all other projects under this subpart shall not exceed 5 years. No-cost extensions of time beyond the maximum award terms will not be considered or granted.

(d) Amount of grants. A grant for a standard BFRDP project under this subpart shall not be in an amount that is more than $250,000 for each year.

Signed at Washington, DC, on August 28, 2009.
Colien Hefferan,
Administrator, Cooperative State Research, Education, and Extension Service.

[FR Doc. E9-21256 Filed 9-3-09; 8:45 am]

BILLING CODE 3410-22-P